DEPARTMENT OF ENERGY

Environmental Management Site-Specific Advisory Board, Savannah River Site

AGENCY: Department of Energy.

ACTION: Notice of Open Meeting: correction.

SUMMARY: On March 4, 2013, the Department of Energy (DOE) published a notice of open meeting announcing a meeting on March 25-26, 2013 of the Environmental Management Site-Specific Advisory Board, Savannah River Site (78 FR 14088). This document makes a correction to that notice.

FOR FURTHER INFORMATION CONTACT: Gerri Flemming, Office of External Affairs, Department of Energy, Savannah River Operations Office, P.O. Box A, Aiken, SC 29802; Phone: (803) 952-7886.

Corrections

In the Federal Register of March 4, 2013, in FR Doc. 2013-04875, on page 14088, please make the following correction:

In that notice under ADDRESSES, first column, third paragraph, the meeting address has been changed. The original address was Westin Savannah Harbor, 1 Resort Drive, Savannah, GA 31421. The new address is Hilton Garden Inn, 1065 Stevens Creek Road, Augusta, GA 30907. The reason for this change is comply with DOE's current restrictions on non-essential travel.

Issued at Washington, DC, on March 11, 2013.
LaTanya R. Butler,
Deputy Committee Management Officer.

[FR Doc. 2013-05916 Filed 3-13-13; 8:45 am]

BILLING CODE 6450-01-P